NATIONAL AERONAUTICS AND SPACE ADMINISTRATION

[Document Number NASA-22-013; Docket Number-NASA-2022-0001]

Requirement for NASA Recipients of Financial Assistance Awards To Obtain a Quotation From Small and/or Minority Businesses, Women's Business Enterprises and Labor Surplus Area Firms

AGENCY: National Aeronautics and Space Administration (NASA).

ACTION: Request for public comment on new term and condition that requires recipients of NASA financial assistance to obtain a quotation from small and/or minority businesses, women's business enterprises or labor surplus area firms; correction.

SUMMARY: The National Aeronautics and Space Administration (NASA) published a document in the Federal Register of February 23, 2022, concerning a request for public comment on new term and condition that requires recipients of NASA financial assistance to obtain a quotation from small and/or minority businesses, women's business enterprises or labor surplus area firms. The document contained an incorrect date.

FOR FURTHER INFORMATION CONTACT: Christiane S. Diallo, Christiane.diallo@nasa.gov, (202) 358-5179.

SUPPLEMENTARY INFORMATION:

In the Federal Register of February 23, 2022, in [FR Doc. 2022-03602], on page 10257, in the third column, correct the “Dates” caption to read:

DATES: Comments must be received by April 24, 2022.

Nanette Smith,
Team Lead, NASA Directives and Regulations.

[FR Doc. 2022-05954 Filed 3-21-22; 8:45 am]

BILLING CODE 7510-13-P